DEPARTMENT OF COMMERCE

National Oceanic and Atmospheric Administration

50 CFR Part 679

[I.D. 050901A]

Groundfish Fisheries of the Bering Sea and Aleutian Islands Area and the Gulf of Alaska

AGENCY: National Marine Fisheries Service (NMFS), National Oceanic and Atmospheric Administration (NOAA), Commerce.

ACTION: Notice of intent; scoping process; request for comments.

SUMMARY: NMFS announces its intent to prepare a supplemental environmental impact statement (SEIS) to modify certain fishery management measures governing the Federally managed groundfish fisheries that are conducted in the Bering Sea and Aleutian Islands Area (BSAI) and the Gulf of Alaska (GOA) to protect the endangered Steller sea lion population.

The scoping process is occurring in parallel with meetings of the North Pacific Fishery Management Council (Council) and the Council’s Reasonable and Prudent Alternative Committee. In addition to collecting scoping information at these meetings, NMFS is accepting written comments on the issues, alternatives, and impacts that should be considered in this analysis.

DATES: Written comments will be accepted through June 22, 2001. See SUPPLEMENTARY INFORMATION for meeting times and special accommodations.

ADDRESSES: Written comments and requests to be included on a mailing list of persons interested in the SEIS should be sent to Lori Gravel, Records Management Office, National Marine Fisheries Service, P.O. Box 21668, Juneau, AK 99802, or fax to (907) 586-7557. See SUPPLEMENTARY INFORMATION for meeting locations and special accommodations.

FOR FURTHER INFORMATION CONTACT: Tamra Faris, NMFS, P.O. Box 21668, Juneau, AK 99802, phone number (907) 586-7645, or tamra.faris@noaa.gov.

SUPPLEMENTARY INFORMATION: Under the Magnuson-Stevens Fishery Conservation and Management Act (Magnuson-Stevens Act), the United States has exclusive fishery management authority over all fishery resources found within the U.S. exclusive economic zone (EEZ). The management of these fishery resources is vested in the Secretary of Commerce and in regional Fishery Management Councils. The North Pacific Fishery Management Council (Council) has the responsibility to prepare fishery management plans for those marine resources off Alaska, which it finds require conservation and management.

Management of the Federal groundfish fishery located off Alaska in the EEZ is carried out under the Fishery Management Plan for the Groundfish Fishery of the Bering Sea and Aleutian Islands Area and the Fishery Management Plan for Groundfish of the Gulf of Alaska (FMPs). These FMPs, their amendments, and implementing regulations (found at 50 CFR part 679) are developed in accordance with the requirements of the Magnuson-Stevens Act. When implementing these FMPs, their amendments, and regulations, FMPs must also comply with other applicable Federal laws and executive orders, notably the National Environmental Policy Act (NEPA), the Endangered Species Act (ESA), the Marine Mammal Protection Act, Executive Order 12866, and the Regulatory Flexibility Act.

In accordance with section 7 of the ESA, NMFS issued on November 30, 2000, a comprehensive Biological Opinion on both groundfish FMPs. The Biological Opinion determined that the BSAI and GOA walleye pollock, Pacific cod, and Atka mackerel fisheries as prosecuted under the FMPs and implementing regulations jeopardized a listed species, the western population of Steller sea lions, and that the FMPs adversely modified designated critical habitat of Steller sea lions due to competition for prey and modification of their prey field. The Biological Opinion included a Reasonable and Prudent Alternative (RPA) designed to mitigate the adverse effects of the FMPs and regulations. The November 30, 2000, RPA contains various protective measures such as total allowable catch reductions, critical habitat harvest limits, closure areas and an experimental monitoring program.

On December 21, 2000, Public Law 106-554 (Pub. L. 106-554) was signed by the President. Among other things, this law established a one-year phase in for implementing the November 30, 2000, RPA as well as provisions affecting its implementation in 2001. For 2002, Pub. L. 105-554 at section 209 (c)(2) states that the November 30, 2000, RPA will become fully effective on January 1, 2002, as revised if necessary and appropriate based on independent scientific review and other new information. As a result of this provision, the Council is developing alternatives to the November 30, 2000, RPA. NMFS has determined that changes to the FMPs and their implementing regulations to protect Steller sea lions may be controversial and could result in significant impacts on the human environment. Therefore, NMFS has decided that the decision making process should be informed through preparation of an SEIS.

Scoping Process

NMFS is seeking information from the public through the scoping process on the range of alternatives to be analyzed as well as environmental and economic issues to consider in the analysis. The scoping process for this SEIS consists of written comments received by NMFS in response to this Notice of Intent as well as public comments received at the Council and Council committee meetings described below. NMFS plans to issue a draft SEIS in August 2001 and a final SEIS in November 2001.

Alternatives

The alternatives currently under consideration for analysis in the SEIS include:

1. Alternative A. No Action. Regulatory measures implemented by emergency rule, and designed to protect Steller sea lions, would expire. Although this is not currently a viable alternative, as it is non-compliant with the ESA and P.L. 106-554, it is being analyzed because it is the no action alternative and will be useful for comparative purposes.

2. Alternative B. Implement the suite of Steller sea lion protection measures that were in place for the year 2000 pollock and Atka mackerel fisheries, and implement measures for the Pacific cod fishery that include seasonal apportionments and harvest limits within critical habitat.

3. Alternative C. Implement the measures detailed in Alternative B, and prohibit all trawling for groundfish within critical habitat (as was the case under the Court ordered injunction on the groundfish fisheries that began in August 2000).

4. Alternative D. Implement the November 30, 2000, RPA in its entirety.

5. Alternative E. Implement the RPA currently being developed by the Council and its Committees.

Public Meetings

Public comments on the scope of the analysis, the alternatives under consideration, and issues to be analyzed may be made at the following meetings and will be considered in preparation of the SEIS. The Council will be meeting in Kodiak, Alaska, on June 6 through11, 2001, at the Westmark Hotel, 236 West Rezanof Drive, Kodiak, AK. Steller sea lion fishery management measures will be discussed by the Council, the Council’s Advisory Panel, and the Council’s Scientific and Statistical Committee under item C-1 of the agenda. The Council’s Steller Sea Lion RPA Committee will be meeting in Seattle, WA, on May 21 through 24, 2001, at the NMFS Alaska Fishery Science Center, Building 4 Room 2039, 7600 Sand Point Way NE, Seattle, WA.

Special Accommodations

The meetings are physically accessible to people with disabilities. Requests for sign language interpretation or other auxiliary aids should be directed to Helen Allen (907) 271-2809 at least 5 days before the meeting dates.

Dated: May 9, 2001.
Bruce C. Morehead,
Acting Director, Office of Sustainable Fisheries, National Marine Fisheries Service.

[FR Doc. 01-12218 Filed 5-14-01; 8:45 am]

BILLING CODE 3510-22-S